DEPARTMENT OF ENERGY

Federal Energy Regulatory Commission

[Project No. 14349-000]

Grand Coulee Project Hydroelectric Authority; Notice of Preliminary Permit Application Accepted for Filing and Soliciting Comments and Motions To Intervene

On January 13, 2012, the Grand Coulee Project Hydroelectric Authority (GCPHA) filed an application, pursuant to section 4(f) of the Federal Power Act, proposing to study the feasibility of the P.E. 16.4 Wasteway Hydroelectric Project, to be located on the P.E. 16.4 Wasteway, which is part of the Federal Columbia Basin Project, in Franklin County, Washington.

The proposed project would consist of the following new facilities: (1) A 20-foot-long, 20-foot-wide intake diversion canal leading to a 20-foot-wide, 15-foot-high intake gate structure; (2) an 8-foot-diameter, 4900-foot-long steel penstock connecting the intake gate structure to the powerhouse; (3) a powerhouse containing a single Francis turbine/generating unit with an installed capacity of 1.75 megawatts; (4) an approximately 0.2-mile-long, 13.8-kilovolt transmission line; and (5) appurtenant facilities. The project would have an estimated average annual generation of 10,000 megawatts-hours.

Applicant Contact: Mr. Ronald K. Rodewald, Secretary-Manager, Grand Coulee Project Hydroelectric Authority, 32 C Street NW., P.O. Box 219, Ephrata, WA 98823, phone (509) 754-2227.

FERC Contact: Kelly Wolcott, (202) 502-6480.

Competing Application: This application competes with Project No. 14236-000 filed July 29, 2011. Competing applications had to be filed on or before January 17, 2012.

Deadline for filing comments, motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project can be viewed or printed on the “eLibrary” link of Commission's Web site at http://www.ferc.gov/docs-filing/elibrary.asp. Enter the docket number (P-14349) in the docket number field to access the document. For assistance, call toll-free 1-866-208-3372.

Dated: February 7, 2012.
Kimberly D. Bose,
Secretary.

[FR Doc. 2012-3276 Filed 2-10-12; 8:45 am]

BILLING CODE 6717-01-P